DEPARTMENT OF ENERGY

Federal Energy Regulatory Commission

Combined Notice of Filings #1

Take notice that the Commission received the following electric corporate filings:

Docket Numbers: EC19-117-000.

Applicants: Simon Solar Farm LLC.

Description: Application for Authorization Under Section 203 of the Federal Power Act, et al. of Simon Solar Farm LLC.

Filed Date: 8/6/19.

Accession Number: 20190806-5167.

Comments Due: 5 p.m. ET 8/27/19.

Take notice that the Commission received the following electric rate filings:

Docket Numbers: ER18-1156-001.

Applicants: St. Joseph Energy Center, LLC.

Description: Report Filing: Refund Report to be effective N/A.

Filed Date: 8/7/19.

Accession Number: 20190807-5047.

Comments Due: 5 p.m. ET 8/28/19.

Docket Numbers: ER18-2002-001.

Applicants: Essential Power Rock Springs, LLC.

Description: Report Filing: Refund Report to be effective N/A.

Filed Date: 8/7/19.

Accession Number: 20190807-5042.

Comments Due: 5 p.m. ET 8/28/19.

Docket Numbers: ER19-2537-000.

Applicants: California Independent System Operator Corporation.

Description: § 205(d) Rate Filing: 2019-08-06 Non-conforming Reliability Coordinator Service Agreement—Gridforce to be effective 10/7/2019.

Filed Date: 8/6/19.

Accession Number: 20190806-5145.

Comments Due: 5 p.m. ET 8/27/19.

Docket Numbers: ER19-2538-000.

Applicants: Black Hills Power, Inc.

Description: § 205(d) Rate Filing: Second Amended Generation Dispatch and Energy Management Agreement to be effective 9/3/2019.

Filed Date: 8/6/19.

Accession Number: 20190806-5153.

Comments Due: 5 p.m. ET 8/27/19.

Docket Numbers: ER19-2539-000.

Applicants: Emera Maine.

Description: Tariff Cancellation: Notice of Termination of Expired Service Agreement—First Wind Energy to be effective 8/6/2019.

Filed Date: 8/7/19.

Accession Number: 20190807-5014.

Comments Due: 5 p.m. ET 8/28/19.

Docket Numbers: ER19-2540-000.

Applicants: Emera Maine.

Description: Tariff Cancellation: Notice of Termination of Expired Service Agreement—Blue Sky West, LLC to be effective 10/27/2016.

Filed Date: 8/7/19.

Accession Number: 20190807-5015.

Comments Due: 5 p.m. ET 8/28/19.

Docket Numbers: ER19-2541-000.

Applicants: Emera Maine.

Description: Tariff Cancellation: Notice of Termination of Expired Service Agreement—Aroostook Wind to be effective 10/8/2019.

Filed Date: 8/7/19.

Accession Number: 20190807-5016.

Comments Due: 5 p.m. ET 8/28/19.

Docket Numbers: ER19-2542-000.

Applicants: PJM Interconnection, L.L.C.

Description: § 205(d) Rate Filing: Original WMPA SA No. 5451; Queue No. AD1-018 to be effective 7/9/2019.

Filed Date: 8/7/19.

Accession Number: 20190807-5049.

Comments Due: 5 p.m. ET 8/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2019.
Kimberly D. Bose,
Secretary.

[FR Doc. 2019-17249 Filed 8-12-19; 8:45 am]

BILLING CODE 6717-01-P